DEPARTMENT OF VETERANS AFFAIRS

[OMB Control No. 2900-0609]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before February 10, 2006.

FOR FURTHER INFORMATION OR A COPY OF THE SUBMISSION CONTACT: Denise McLamb, Records Management Service (005E3), Department of Veterans Affairs, 810 Vermont Avenue, NW., Washington, DC 20420, (202) 565-8374, FAX (202) 565-6950 or e-mail: denise.mclamb@mail.va.gov. Please refer to “OMB Control No. 2900-0609.”

Send comments and recommendations concerning any aspect of the information collection to VA's OMB Desk Officer, OMB Human Resources and Housing Branch, New Executive Office Building, Room 10235, Washington, DC 20503 (202) 395-7316. Please refer to “OMB Control No. 2900-0609” in any correspondence.

SUPPLEMENTARY INFORMATION: Title: Survey of Veteran Enrollees' Health and Reliance Upon VA, VA Form 10-21034g and Focus Groups.

OMB Control Number: 2900-0609.

Type of Review: Extension of a currently approved collection.

Abstract: The data collected on VA Form 10-21034g will be used to survey enrollees' health status, income, and their reliance on VA's health care services. VA will use the information collected as the basis for new emphasis on population-based budget formulation, policy scenario testing, and strategic planning. An agency may not conduct or sponsor, and a person is not required to respond to a collection of information unless it displays a currently valid OMB control number. The Federal Register Notice with a 60-day comment period soliciting comments on this collection of information was published on October 3, 2005, at pages 57648-57649.

Affected Public: Individuals or Households and Federal Government.

Estimated Annual Burden: 10,900 hours.

Estimated Average Burden Per Respondent: 15.5 minutes.

Frequency of Response: Annually.

Estimated Number of Respondents: 42,200.

Dated: December 28, 2005.
By direction of the Secretary.
Denise McLamb,
Program Analyst, Records Management Service.

[FR Doc. E6-129 Filed 1-10-06; 8:45 am]

BILLING CODE 8320-01-P